DEPARTMENT OF TRANSPORTATION

Federal Aviation Administration

Government/Industry Aeronautical Charting Forum Meeting

AGENCY: Federal Aviation Administration (FAA), DOT.

ACTION: Notice of public meeting

SUMMARY: This notice announces the bi-annual meeting of the Federal Aviation Administration (FAA) Aeronautical Charting Forum (ACF) to discuss informational content and design of aeronautical charts and related products, as well as instrument flight procedures development policy and design criteria.

DATES: The ACF is separated in two distinct groups. The Instrument Procedures Group (IPG) will meet April 22, 2008, from 8:30 a.m. to 5 p.m. The Charting Group will meet April 23 and 24 from 8:30 a.m. to 5 p.m.

ADDRESSES: The meeting will be hosted by Advanced Management Technology, Incorporated (AMTI), 1515 Wilson Blvd. Suite 1100, Arlington, VA 22209.

FOR FURTHER INFORMATION CONTACT: For information relating to the Instrument Procedures Group, contact Thomas E. Schneider, FAA, Flight Procedures Standards Branch, AFS-420, 6500 South MacArthur Blvd., P.O. Box 25082, Oklahoma City, OK 73125; telephone (405) 954-5852; fax: (405) 954-2528.

For information relating to the Charting Group, contact John A. Moore, FAA, National Aeronautical Charting Group, Requirements and Technology Team, AJW-3521, 1305 East-West Highway, SSMC4-Station 5544, Silver Spring, MD 20910; telephone: (301) 713-2631, fax: (301) 713-1960.

SUPPLEMENTARY INFORMATION: Pursuant to § 10(a)(2) of the Federal Advisory Committee Act (Pub. L. 92-463; 5 U.S.C. App. II), notice is hereby given of a meeting of the FAA Aeronautical Charting Forum to be held from April 22 through April 24, 2008, from 8:30 a.m. to 5 p.m. at the Advanced Management Technologies, Incorporated (AMTI), 1515 Wilson Blvd., Suite 1100, Arlington, VA 22209.

The Instrument Procedures Group agenda will include briefings and discussions on recommendations regarding pilot procedures for instrument flight, as well as criteria, design, and development policy for instrument approach and departure procedures.

The Charting Group agenda will include briefings and discussions on recommendations regarding aeronautical charting specifications, flight information products, as well as new aeronautical charting and air traffic control initiatives.

Attendance is open to the interested public, but will be limited to the space available.

The public must make arrangements by April 4, 2008, to present oral statements at the meeting. The public may present written statements and/or new agenda items to the committee by providing a copy to the person listed in the FOR FURTHER INFORMATION CONTACT section by April 4, 2008. Public statements will only be considered if time permits.

Issued in Washington, DC, on February 27, 2008.
John A. Moore,
Co-Chair, Aeronautical Charting Forum.

[FR Doc. 08-920 Filed 2-29-08; 8:45 am]

BILLING CODE 4910-13-M